DEPARTMENT OF LABOR

Mine Safety and Health Administration

[OMB Control No. 1219-0131]

Proposed Extension of Information Collection; Training Plans, New Miner Training, Newly-Hired Experienced Miner Training

AGENCY: Mine Safety and Health Administration, Labor.

ACTION: Request for public comments.

SUMMARY: The Department of Labor (DOL), as part of its continuing effort to reduce paperwork and respondent burden, conducts a pre-clearance consultation program to provide the general public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection entitled Training Plans, New Miner Training, Newly-hired Experienced Miner Training.

DATES: All comments must be received on or before January 13, 2025.

ADDRESSES: Comments concerning the information collection requirements of this notice may be sent by any of the methods listed below. Please note that late comments received after the deadline will not be considered.

• Federal E-Rulemaking Portal: https://www.regulations.gov. Follow the on-line instructions for submitting comments for docket number MSHA-2024-0035.

• Mail/Hand Delivery: DOL-MSHA, Office of Standards, Regulations, and Variances, 201 12th Street South, 4th Floor West, Arlington, VA 22202-5452. Before visiting MSHA in person, call 202-693-9455 to make an appointment.

• MSHA will post all comments as well as any attachments, except for information submitted and marked as confidential, in the docket at https://www.regulations.gov.

FOR FURTHER INFORMATION CONTACT: S. Aromie Noe, Director, Office of Standards, Regulations, and Variances, MSHA, at MSHA.information .collections@dol.gov (email); (202) 693-9440 (voice); or (202) 693-9441 (facsimile). These are not toll-free numbers.

SUPPLEMENTARY INFORMATION:

I. Background

A. Legal Authority

Section 103(h) of the Federal Mine Safety and Health Act of 1977 as amended (Mine Act), 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal and nonmetal mines.

Section 2 of the Mine Act, 30 U.S.C. 801, recognizes that education and training is an important element of federal efforts to make the nation's mines safe. These provisions are intended to ensure that miners will be effectively trained in matters affecting their health and safety, with the ultimate goal of reducing the occurrence of injury and illness in the nation's mines.

B. Information Collection

In order to fulfill the statutory mandates to promote miners' health and safety, MSHA requires the collection of information under the information collection request entitled Training Plans, New Miner Training, Newly-Hired Experienced Miner Training. The information collection is intended to ensure that mine operators possess appropriate training plans and maintain records of the mandatory requirements for training and retraining miners and other persons at shell dredging, sand, gravel, surface stone, surface clay, colloidal phosphate, or surface limestone mines.

1. Training Plans

Mine operators are required to develop and implement a written training plan for approval by MSHA, that contains effective programs for: training new miners and newly hired experienced miners, training miners for new tasks, annual refresher training, and site-specific hazard awareness training. Miners are better protected when receiving timely and complete training described in the operators' written training plan.

Under 30 CFR 46.2(l), operators can be either a production-operator or an independent contractor whose employees perform services at a mine. A production-operator is defined as any owner, lessee, or other person who operates, controls, or supervises a mine (30 CFR 46.2(m)), and an independent contractor is any entity that contracts to perform services at a mine(30 CFR 46.2(e)).

Under 30 CFR 46.2(g), a miner is defined as any person, including any operator or supervisor, who works at a mine and is engaged in mining operations. This definition includes independent contractors and employees of independent contractors who are engaged in mining operations; and any construction worker who is exposed to hazards of mining operations. The definition of “miner” does not include scientific workers; delivery workers; customers (including commercial over-the-road truck drivers); vendors; or visitors. This definition also does not include maintenance or service workers who do not work at a mine site for frequent or extended periods. Following are information collection requirements at each step of the development of a training plan.

1-1. Develop Training Plans

Under 30 CFR 46.3(a), the operator must develop and implement a written plan, approved by MSHA, that contains effective programs for training new miners and newly hired experienced miners, training miners for new tasks, annual refresher training, and site-specific hazard awareness training.

The approval process is described in 30 CFR 46.3(b) through (i). Under 30 CFR 46.3(b), a training plan is considered approved by MSHA if it contains, at a minimum, the following information:

(1) The name of the production-operator or independent contractor, mine name(s), and MSHA mine identification number(s) or independent contractor identification number(s);

(2) The name and position of the person designated by the operator who is responsible for the health and safety training at the mine;

(3) A general description of the teaching methods and the course materials that are to be used in the training program, including the subject areas to be covered and the approximate time or range of time to be spent on each subject area;

(4) A list of the persons and/or organizations who will provide the training, and the subject areas in which each person and/or organization is competent to instruct; and

(5) The evaluation procedures used to determine the effectiveness of training.

1-2. Submit Proposed Training Plans to MSHA and Notify Miners or Miners' Representatives

Under 30 CFR 46.3(c), a plan that does not include the minimum information specified in 30 CFR 46.3 must be submitted to and approved by the Regional Manager, Educational Field Services Division, or designee, for the region in which the mine is located. The operator also may voluntarily submit a plan for Regional Manager approval. The operator must notify miners or their representatives when they submit a plan for Regional Manager approval. Within two weeks of receipt or posting of the plan, miners and their representatives may also request review and approval of the plan by the Regional Manager and must notify the operator of such request.

1-3. Provide Proposed Training Plans to Miners or Miners' Representatives

Under 30 CFR 46.3(d), the operator must provide the miners' representative, if any, with a copy of the plan at least 2 weeks before the plan is implemented or, if they request MSHA approval of the plan, at least two weeks before they submit the plan to the Regional Manager for approval. At mines where no miners' representative has been designated, the operator must post a copy of the plan at the mine or provide a copy to each miner at least 2 weeks before they implement the plan or submit it to the Regional Manager for approval.

1-4. Miners or Miners' Representatives Submit Written Comments on Training Plans

Under 30 CFR 46.3(e), within 2 weeks following the receipt or posting of the training plan provided to the miners or their representatives under 30 CFR 46.3(d), miners or their representatives may submit written comments on the plan to the operator, or to the Regional Manager, as appropriate.

1-5. Provide Approved Training Plans to Miners and Miners' Representatives

Under 30 CFR 46.3(g), the operator must provide the miners' representative, if any, with a copy of the approved plan within one week after approval. At mines where no miners' representative has been designated, the operator must post a copy of the plan at the mine or provide a copy to each miner within one week after approval.

1-6. Submit Appeals for MSHA Decision

Under 30 CFR 46.3(h), if the operator, miners, or miners' representatives wish to appeal a decision of the Regional Manager, the operator must send the appeal, in writing, to the Director for Educational Policy and Development within 30 calendar days after notification of the Regional Manager's decision. The Director will issue a final decision of the Agency within 30 calendar days after receipt of the appeal.

1-7. Make Training Plans Available for Inspection and Examination

Under 30 CFR 46.3(i), the operator must make available at the mine a copy of the current training plan for inspection by MSHA and for examination by miners and their representatives. If the training plan is not maintained at the mine, the operator must have the capability to provide the plan within one business day upon request by MSHA, miners, or their representatives.

2. Training Records

Mine operators are required to conduct the following mandatory training: training new miners, training newly hired experienced miners, training miners for new tasks, annual refresher training, and site-specific hazard awareness training. The operators are required to make a record of and certify each type of training records. The discussion below is organized by the type of training records.

2-1. New Miner Training

Section 30 CFR 46.5 sets forth the provisions for the mandatory requirements for new miners training. Under 30 CFR 46.2(i), new miner means a person who is beginning employment as a miner with a mine operator and who is not an experienced miner.

Under 30 CFR 46.5(a), the operator must provide each new miner with no less than 24 hours of training as prescribed by:

(1) 30 CFR 46.5(b): Training before a new miner begins work at the mine, such as an introduction to the work environment and instruction on the recognition and avoidance of electrical hazards and other hazards present at the mine;

(2) 30 CFR 46.5(c): Training no later than 60 calendar days after a new miner begins work at the mine, such as an instruction and demonstration on the use, care, and maintenance of self-rescue and respiratory devices, if used at the mine and a review of first aid methods; and

(3) 30 CFR 46.5(d): Training no later than 90 calendar days after a new miner begins work at the mine on any other subjects that promote occupational health and safety for miners at the mine.

Miners who have not received the full 24 hours of new miner training must work where an experienced miner can observe that the new miner is performing his or her work in a safe and healthful manner.

Under 30 CFR 46.9(c)(1), the operator must make a record for new miner training, no later than:

(1) when the miner begins work at the mine as required under 30 CF 46.5(b);

(2) 60 calendar days after the miner begins work at the mine as required under 30 CFR 46.5(c); and

(3) 90 calendar days after the miner begins work at the mine as required under 30 CFR 46.5(d), if applicable.

Under 30 CFR 46.9(d)(1), the operator must ensure that all records of training are certified by the person designated in the MSHA-approved training plan and a copy provided to the miner upon completion of the 24 hours of new miner training.

2-2. Newly Hired Experienced Miner Training

Section 30 CFR 46.6 sets forth the provisions for the mandatory requirements for newly hired experienced miners training. Under 30 CFR 46.2(j), newly hired experienced miner means an experienced miner who is beginning employment with a mine operator. Experienced miners are a person who has completed 24 hours of new miner training and who has at least 12 cumulative months of surface mining or equivalent experience. Experienced miners who move from one mine to another, such as drillers and blasters, but who remain employed by the same operator are not considered newly hired experienced miners.

Under 30 CFR 46.6(a), the operator must provide each newly hired experienced miner with trainings as prescribed by paragraphs (b) and (c) that includes:

(1) 30 CFR 46.6(b): Training before a newly hired experienced miner begins work at the mine, such as an introduction to the work environment and instruction on the recognition and avoidance of electrical hazards and other hazards present at the mine; and

(2) 30 CFR 46.6(c): Training no later than 60 calendar days after a newly hired experienced miner begins work at the mine, such as an instruction and demonstration on the use, care, and maintenance of self-rescue and respiratory devices, if used at the mine.

Under 30 CFR 46.9(c)(2), the operator must make a record for newly hired experienced miner training, no later than:

(1) when the miner begins work at the mine as required under 30 CFR 46.6(b); and

(2) 60 calendar days after the miner begins work at the mine under 30 CFR 46.6(c).

Under 30 CFR 46.9(d)(2), the operator must ensure that all records of training are certified by the person designated in the MSHA-approved training plan and a copy provided to the miner upon completion of newly hired experienced miner training.

2-3. New Task Training

Section 30 CFR 46.7 sets forth the provisions for the mandatory requirements for new task training.

New Task Training—Reassigned Tasks

Under 30 CFR 46.7(a), the operator must provide to any miner that is reassigned to a new task in which he or she has no previous work experience with training in the health and safety aspects of the task to be assigned, including the safe work procedures of such task, information about the physical and health hazards of chemicals in the miner's work area, the protective measures a miner can take against these hazards, and the contents of the mine's HazCom program. This training must be provided before the miner performs the new task.

New Task Training—Changes in Assigned Tasks

Under 30 CFR 46.7(b), if a change occurs in a miner's assigned task that affect the health and safety risks encountered by the miner, the operator must provide the miner with new task training that addresses the change. Under 30 CFR 46.9(c)(3), the operator must make a record upon completion of new task training. Under 30 CFR 46.9(d)(3), the operator must ensure that all records of training are certified by the person designated in the MSHA-approved training plan and a copy provided to the miner at least once every 12 months for new task training, or upon request by the miner, if applicable.

2-4. Annual Refresher Training

Section 30 CFR 46.8 sets forth the provisions for the mandatory requirements for new miners training. Under 30 CFR 46.8(a), the operator must provide each miner with no less than 8 hours of annual refresher training:

(1) No later than 12 months after miner begins working at the mine; and

(2) Thereafter no later than 12 months after the previous annual fresher training.

Under 30 CFR 46.8(b), the refresher training must include instruction on any changes at the mine that could adversely affect the miner's health and safety. Under 30 CFR 46.8(c), refresher training must also address other health and safety subjects that are relevant to mining operations at the mine. Recommended subjects include applicable health and safety requirements; information about the physical and health hazards of chemicals in the miner's work area; and water hazards, pits, and spoil banks. Under 30 CFR 46.9(c)(4), the operator must make a record after each session of annual refresher training. Under 30 CFR 46.9(d)(4), the operator must ensure that all records of training are certified by the person designated in the MSHA-approved training plan and a copy provided to the miner upon completion of the 8 hours of annual refresher training.

2-5. Site-Specific Hazard Awareness Training

Section 30 CFR 46.11 sets forth the provisions for the mandatory requirements for site-specific hazard awareness training.

Under 30 CFR 46.11(a), the operator must provide site-specific hazard awareness training before any person specified in 30 CFR 46.11(b) and (c) is exposed to mine hazards.

Under 30 CFR 46.11(b), the operator must provide site-specific hazard awareness training, as appropriate, to any person who is not a miner but is presented at a mine site, including:

(1) Office or staff personnel;

(2) Scientific workers;

(3) Delivery workers;

(4) Customers, including commercial over-the-road truck drivers;

(5) Construction workers or employees of independent contractors who are not miners;

(6) Maintenance or service workers who do not work at the mine site for frequent or extended periods; and

(7) Vendors or visitors.

Under 30 CFR 46.11(c), the operator must provide miners, such as drillers or blasters, who move from one mine to another mine while remaining employed by the same mine operator with site-specific hazard awareness training for each mine.

Under 30 CFR 46.11(d), site-specific hazard awareness training is information or instructions on the hazards a person could be exposed to while at the mine, as well as applicable emergency procedures. The training must address site-specific health and safety risks, such as unique geologic or environmental conditions, recognition and avoidance of hazards such as electrical and powered-haulage hazards, traffic patterns and control, and restricted areas; and warning and evacuation signals, evacuation and emergency procedures, or other special safety procedures.

Under 30 CFR 46.11(e), the operator may provide site-specific hazard awareness training through the use of written hazard warnings, oral instruction, signs and posted warnings, walkaround training, or other appropriate means that alert persons to site-specific hazards at the mine.

Under 30 CFR 46.11(f), site-specific hazard awareness training is not required for any person who is accompanied at all times by an experienced miner who is familiar with hazards specific to the mine site.

Under 30 CFR 46.9(c)(5), the operator must make a record upon completion by miners of site-specific hazard awareness training.

Under 30 CFR 46.9(d)(5), the operator must ensure that all records of training are certified by the person designated in the MSHA-approved training plan and a copy provided to the miner upon completion by miners of site-specific hazard awareness training.

2-6. Independent Contractor Training

Under 30 CFR 46.12(a), the production-operator has primary responsibility for ensuring that site-specific hazard awareness training is given to employees of independent contractors who are required to receive such training under 30 CFR 46.11. Each production-operator must provide information to each independent contractor who employs a person at the mine on site-specific mine hazards and the obligation of the contractor to comply with the regulations, including the requirements of 30 CFR part 46.

Under 30 CFR 46.12(b), independent contractors who employ a miner at the mine has primary responsibility for complying with 30 CFR 46.3 through 46.10, including providing new miner training, newly hired experienced miner training, new task training, and annual refresher training. The independent contractor must inform the production-operator of any hazards of which the contractor is aware that may be created by the performance of the contractor's work at the mine.

2-7. Training Records

Under 30 CFR 46.9, the operator must make a record of and certify each type of training detailed below to document that each miner has received their required training. Under 30 CFR 46.9(a), the operator must make a record of and certify on MSHA Form 5000-23 that each miner has received the training required in 30 CFR 46. The operator can, but is not required to, record the miner's training on MSHA Form 5000-23, Certificate of Training. MSHA Form 5000-23 is the mandatory approved form for Part 48 training associated with information collection request under OMB Control Number 1219-0009.

Alternatively, the operator can record and certify on a form that contains the following information listed in 30 CFR 46.9(b), including:

(1) The printed full name of the person trained;

(2) The type of training, the duration of the training, the date the training was received, the name of the competent person who provided the training;

(3) The name of the mine or independent contractor, MSHA mine identification number or independent contractor identification number, and location of training (if an institution, the name and address of the institution).);

(4) The statement, “False certification is punishable under section 110(a) and (f) of the Federal Mine Safety and Health Act,” printed in bold letters and in a conspicuous manner; and

(5) A statement signed by the person designated in the MSHA-approved training plan for the mine as responsible for health and safety training, that states “I certify that the above training has been completed.”

Under 30 CFR 46.9(f), when a miner leaves the operator's employment, the operator must provide each miner with a copy of his or her training records and certificates upon request.

Under 30 CFR 46.9(g), the operator must make available at the mine a copy of each miner's training records and certificates for inspection by MSHA and for examination by miners and their representatives. If training certificates are not maintained at the mine, the operator must be able to provide the certificates upon request to MSHA, miners, or their representatives.

Under 30 CFR 46.9(h), the operator must maintain copies of training certificates and training records for each currently employed miner during his or her employment, except for records and certificates of annual refresher training which must be maintained for only two years. The operator must maintain copies of training certificates and training records for at least 60 calendar days after a miner terminates employment.

Under 30 CFR 46.9(i), the operator is not required to make records of site-specific hazard awareness training to persons who are not miners. However, the operator, must be able to provide evidence to MSHA, upon request, that the training was provided, such as the training materials that are used; copies of written information distributed to persons upon their arrival at the mine, or visitor log books that indicate that training has been provided.

The information collection request under a currently approved OMB Control Number 1219-0009, Certificate of Training, covers the mandatory requirements for submitting and obtaining approval of programs for training and retraining miners working in underground mines (30 CFR part 48 Subpart A). The request also covers similar requirements for miners working at surface mines and surface areas of underground mines (30 CFR part 48 Subpart B). That information collection request under does not apply to training and retraining of miners at shell dredging, sand, gravel, surface stone, surface clay, colloidal phosphate, and surface limestone mines. The provisions of 30 CFR part 46 set forth the mandatory requirements for training and retraining miners and other persons for these miners.

II. Desired Focus of Comments

MSHA is soliciting comments concerning the proposed information collection related to Training Plans, New Miner Training, Newly-Hired Experienced Miner Training. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on https://www.regulations.gov. MSHA cautions the commenter against providing any information in the submission that should not be publicly disclosed. Full comments, including personal information provided, will be made available on https://www.regulations.gov and https://www.reginfo.gov.

The public may also examine publicly available documents at DOL-MSHA, Office of Standards, Regulations and Variances, 201 12th Street South, 4th Floor West, Arlington, VA 22202-5452. Sign in at the receptionist's desk on the 4th Floor via the West elevator. Before visiting MSHA in person, call 202-693-9455 to make an appointment.

Questions about the information collection requirements may be directed to the person listed in the FOR FURTHER INFORMATION CONTACT section of this notice.

III. Current Actions

This information collection request concerns provisions for Training Plans, New Miner Training, Newly-Hired Experienced Miner Training. MSHA has updated the data with respect to the number of respondents, responses, time burden, and burden costs supporting this information collection request from the previous information collection request.

Type of Review: Extension, without change, of a currently approved collection.

Agency: Mine Safety and Health Administration.

OMB Number: 1219-0131.

Affected Public: Business or other for-profit.

Number of Annual Respondents: 10,872.

Frequency: On occasion.

Number of Annual Responses: 2,275,623.

Annual Time Burden: 157,458 hours.

Annual Other Burden Costs: $351,967.

MSHA Form: Electronic Training Plan Advisor.

Comments submitted in response to this notice will be summarized and included in the request for Office of Management and Budget approval of the proposed information collection request; they will become a matter of public record and be available at https://www.reginfo.gov.

Song-ae Aromie Noe,
Certifying Officer, Mine Safety and Health Administration.

[FR Doc. 2024-26113 Filed 11-8-24; 8:45 am]

BILLING CODE 4510-43-P